DEPARTMENT OF EDUCATION

[Docket No.: ED-2022-SCC-0066]

Agency Information Collection Activities; Comment Request; Higher Education Emergency Relief Fund (HEERF) (a)(2) Construction, Renovation, & Real Property Projects Prior Approval Request Form

AGENCY: Office of Postsecondary Education (OPE), Department of Education (ED).

ACTION: Notice.

SUMMARY: In accordance with the Paperwork Reduction Act of 1995, ED is requesting the Office of Management and Budget (OMB) to conduct an emergency review of a new information collection.

DATES: The Department requested emergency processing from OMB for this information collection request on May 16, 2022. As a result, the Department is providing the public with the opportunity to comment under the full comment period. Interested persons are invited to submit comments on or before July 19, 2022.

ADDRESSES: To access and review all the documents related to the information collection listed in this notice, please use http://www.regulations.gov by searching the Docket ID number ED-2022-SCC-0066. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Karen Epps, 202-453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Higher Education Emergency Relief Fund (HEERF) (a)(2) Construction, Renovation, & Real Property Projects Prior Approval Request Form.

OMB Control Number: 1840-0861.

Type of Review: A new information collection.

Respondents/Affected Public: State, Local, and Tribal Governments; Private Sector.

Total Estimated Number of Annual Responses: 1,200.

Total Estimated Number of Annual Burden Hours: 600.

Abstract: The Consolidated Appropriations Act, 2022 (Pub. L. 117-103) signed by the President on March 15, 2022, provides new flexibilities and requirements around using HEERF (a)(2) grant funds for construction, renovation, and real property projects as a result of Congress expanding the allowable uses of funds under the HEERF (a)(2) programs. This collection includes the required prior approval form that must be completed by eligible institutions seeking to use (a)(2) funds for this purpose.

The Department requested emergency processing to be able to process the prior approval requests institutions are required to submit to commence a construction, renovation or real property project in a timely manner. Due to the potential lengthened timeline associated with the construction, renovation, and real property projects, the Department has determined that it is necessary to obtain the required information from the institutions to use the (a)(2) funding stream for this purpose as required by Uniform Guidance. Without approval of the HEERF (a)(2) Prior Approval Request Form, institutions will be forced to delay the construction, renovation and real property projects which “prevent, prepare for, and respond to coronavirus.” Any delay in the submission of requests could jeopardize the timelines as institutions will not have sufficient time to complete the construction, renovation, and real property projects prior to Account Closing Regulation, which is September 30, 2028. This means all remaining funds unspent by institutions must be returned to the U.S. Department of Treasury.

Dated: May 16, 2022.
Kun Mullan,
PRA Coordinator, Strategic Collections and Clearance, Governance and Strategy Division, Office of Chief Data Officer, Office of Planning, Evaluation and Policy Development.

[FR Doc. 2022-10818 Filed 5-19-22; 8:45 am]

BILLING CODE 4000-01-P